DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 79 FR 21760-21763, dated April 17, 2014) is amended to establish the World Trade Center Health Program, National Institute for Occupational Safety and Health, Centers for Disease Control and Prevention.

Section C-B, Organization and Functions, is hereby amended as follows:

After the title and functional statement for the Division of Compensation Analysis and Support (CCN), National Institute for Occupational Safety and Health (CC), insert the following:

World Trade Center Health Program (CCP). (1) Provides the leadership and management to comply with the responsibilities under the James Zadroga 9/11 Act of 2010; Title) (XXIII of the Public Health Service Act; (2) administers the World Trade Center Health Program (WTCHP); (3) develops, implements, and maintains a WTCHP quality assurance program; (4) provides annual reports to Congress; (5) consults with stakeholders in carrying out the WTCHP mission; (6) establishes and administers a WTCHP Scientific Technical Advisory Committee; (7) develops and implements an education and outreach program; (8) provides for uniform data collection and for data integration; (9) provides for collaboration between Data Centers and World Trade Center (WTC) Health Registry; (10) enters into and oversees contracts for Clinical Centers of Excellence, Data Centers, and Nationwide Provider Networks; (11) enters into agreement with New York City for purposes of collecting 10% of the specified funds stated in the Zadroga 9/11 Act of 2010; (12) ensures continuity of care; (13) reimburses Clinical Centers of Excellence for infrastructure costs; (14) establishes a process for enrollment of WTC responders, and Pentagon and Shanksville responders; (15) conducts reviews to determine if cancer/types of cancer should be added to list of WTC-related health conditions; (16) issues regulations for medical necessity; (17) reimburses costs for initial health evaluation, monitoring, and treatment; (18) establishes a process to determine and certify screening-eligible WTC survivors as certified-eligible survivors; (19) administers/collects recoupments from private insurance and workers compensation; (20) conducts and/or supports research; (21) ensures that a Registry of 9/11 victims is maintained; (22) enters into agreement(s) with the Centers for Medicare and Medicaid Services for provider reimbursements; and (23) ensures compliance with all Health Insurance Portability and Accountability Act of 1996 (HIPAA) Public Law 104-191, statutory and regulatory provisions that govern the WTCHP as a covered entity, as well as any HHS HIPAA policies through the establishment of a WTCHP HIPAA Compliance Program.

Dated: April 28, 2014.
Sherri A. Berger,
MSPH, Chief Operating Officer, Centers for Disease Control and Prevention.

[FR Doc. 2014-10179 Filed 5-5-14; 8:45 am]

BILLING CODE 4160-18-M